DEPARTMENT OF TRANSPORTATION

Federal Aviation Administration

[Docket No. FAA-2019-0819]

Agency Information Collection Activities: Requests for Comments; Clearance of a New Approval of Information Collection: National Sleep Study

AGENCY: Federal Aviation Administration (FAA), DOT.

ACTION: Notice and request for comments.

SUMMARY: In accordance with the Paperwork Reduction Act of 1995, FAA invites public comments about our intention to request the Office of Management and Budget (OMB) approval for a new information collection. The collection involves study on relationships between aircraft noise events and the probability of waking up.

DATES: Written comments should be submitted by January 27, 2020.

ADDRESSES: Please send written comments:

By Electronic Docket: www.regulations.gov (Enter docket number into search field).

By mail: Dr. Natalia Sizov, The FAA Policy, International Affairs and Environment, 800 Independence Ave. SW, Washington, DC 20591.

By fax: 202-267-5594.

FOR FURTHER INFORMATION CONTACT: Dr. Natalia Sizov by email at: natalia.sizov@faa.gov; phone: 202-267-3553.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: National Sleep Study.

Form Numbers: None.

Type of Review: Clearance of a new information collection.

Background: The main purpose of the National Sleep Study is to collect nationally representative information on the effects of aircraft noise on sleep and to derive exposure-response relationships between aircraft noise and its effect on communities around United States civilian airports. This Study will collect information about single aircraft noise events levels and the probability of resident's waking up. The FAA will use the information from this collection to derive the empirical data to inform any potential updates to or validation of the national aviation noise policy.

Respondents: Approximately 4,400 respondents to 25,000 postal surveys (18% response rate). From among these survey respondents, approximately 400 respondents (9.1%) will be recruited into the field study.

Frequency: Response to the postal survey, and participation in the field study, will be a one-time event.

Estimated Average Burden per Response: The postal survey will take an estimated 8.25 minutes to complete. The field study will take an estimated 2 hours and 33 minutes of active participation across 5 study days to complete.

Estimated Total Annual Burden: The estimated total annual burden for the postal survey is 302 hours and 30 minutes in each of the two years of the study, and 510 hours for field study.

Issued in Washington, DC, on November 21, 2019.
Rebecca Cointin,
Executive Director (Acting), FAA Office of Environment & Energy.

[FR Doc. 2019-25714 Filed 11-26-19; 8:45 am]

BILLING CODE 4910-13-P